DEPARTMENT OF LABOR

Mine Safety and Health Administration

Brookwood-Sago Mine Safety Grants; Correction

Agency: Mine Safety and Health Administration, Labor.

Action: Notice; correction.

SUMMARY: On June 29, 2015, the Mine Safety and Health Administration (MSHA) announced in the Federal Register the availability of grant funds for education and training programs to help identify, avoid, and prevent unsafe working conditions in and around mines. 80 FR 37017. The document included an incorrect date.

FOR FURTHER INFORMATION CONTACT: Janice Oates at Oates.Janice@dol.gov or 202-693-9573 or Teresa Rivera at Rivera.Teresa@dol.gov or 202-693-9581.

Correction

In the Federal Register of June 29, 2015, 80 FR 37017, on page 37021, in the first column, correct the “Submission Date, Times, and Addresses” in paragraph D to read:

The closing date for applications will be August 29, 2015 (no later than 11:59 p.m. EDST). MSHA will award grants on or before September 30, 2015.

Grant applications must be submitted electronically through the Grants.gov Web site. The Grants.gov site provides all the information about submitting an application electronically through the site as well as the hours of operation. Interested parties can locate the downloadable application package by the CFDA No. 17.603.

Dated: July 2, 2015.
Patricia W. Silvey,
Deputy Assistant Secretary for Operations, Mine Safety and Health.

[FR Doc. 2015-16739 Filed 7-8-15; 8:45 am]

BILLING CODE 4510-43-P